DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project: The Health Education Assistance Loan (HEAL) Program: Forms (OMB No. 0915-0034 Extension)

The HEAL program provided federally insured loans to assure the availability of funds for loans to eligible students to pay for their education costs. In order to administer and monitor the HEAL program the following forms are utilized: The Lenders Application for Contract of Federal Loan Insurance form (used by lenders to make application to the HEAL insurance program); the Borrower's Deferment Request form (used by borrowers to request deferments on HEAL loans and used by lenders to determine borrower's eligibility for deferment); the Borrower Loan Status update electronic submission (submitted monthly by lenders to the Secretary on the status of each loan); and the Loan Purchase/Consolidation electronic submission (submitted by lenders to the Secretary to report sales, and purchases of HEAL loans).

The estimates of burden for the forms are as follows:

HRSA form | Number of respondents | Responses per respondent | Total responses | Hours per responses | Total burden hours
Lender's Application for Contract of Federal Loan Insurance | 13 | 1 | 13 | 0.13 | 2
Borrower's Deferment Request:
Borrowers | 58 | 1 | 58 | 0.17 | 10
Employers | 43 | 1.34 | 58 | 0.08 | 5
Borrower Loan Status Update | 8 | 13 | 104 | 0.17 | 18
Loan Purchase/Consolidation | 1 | 1 | 1 | 0.07 | .06
Total | 123 |  | 234 |  | 35

Written comments and recommendations concerning the proposed information collection should be sent within 30 days of this notice to the desk officer for HRSA, either by e-mail to OIRA_submission@omb.eop.gov or by fax to (202) 395-6974. Please direct all correspondence to the “attention of the desk officer for HRSA.”

Dated: July 15, 2009.
Alexandra Huttinger,
Director, Division of Policy Review and Coordination.

[FR Doc. E9-17428 Filed 7-22-09; 8:45 am]

BILLING CODE 4165-15-P